DEPARTMENT OF ENERGY

Federal Energy Regulatory Commission

Notice of Effectiveness of Exempt Wholesale Generator Status

Grande Prairie Wind, LLC | EG16-81-000.
La Frontera Holdings, LLC | EG16-82-000.
Boulder Solar Power, LLC | EG16-83-000.
Electra Wind, LLC | EG16-84-000.
Osborn Wind Energy, LLC | EG16-85-000.
Oliver Wind III, LLC | EG16-86-000.
Peak View Wind Energy LLC | EG16-87-000.
Blythe Solar II, LLC | EG16-88-000.
Elevation Solar C, LLC | EG16-89-000.

Take notice that during the month of June 2016, the status of the above-captioned entities as Exempt Wholesale Generators became effective by operation of the Commission's regulations. 18 CFR 366.7(a).

Dated: July 14, 2016.
Nathaniel J. Davis, Sr.,
Deputy Secretary

[FR Doc. 2016-17099 Filed 7-19-16; 8:45 am]

BILLING CODE 6717-01-P